DEPARTMENT OF AGRICULTURE

Forest Service

Kirkpatrick Dam/Oklawaha River Restoration Project, Ocala National Forest, Putnam and Marion County Florida

AGENCY: Forest Service, USDA.

ACTION: Notice of intent to prepare a draft environmental impact statement.

SUMMARY: The USDA Forest Service along with the Florida Department of Environmental Protection (FDEP), intends to prepare a draft environmental impact statement to authorize continued occupancy and use of national forest system land for operating and maintaining portions of Kirkpatrick Dam, Rodman Reservoir, and Eureka Lock in conjunction with the implementation of the partial restoration of the Oklawaha River.

DATES: A draft environmental impact statement is expected to be completed in April 2001. The final environmental impact statement is scheduled to be completed in December 2001.

ADDRESSES: You may request to be placed on the project mailing list and direct comments to: Marsha Kearney, Forest Supervisor, USDA Forest Service, 325 John Knox Rd., Tallahassee, Florida 32303.

FOR FURTHER INFORMATION CONTACT: George Hemingway, Special Projects Liaison, USDA Forest Service, 325 John Knox Rd., Tallahassee, Florida 32303, 850-942-9364.

SUPPLEMENTARY INFORMATION: The FDEP has applied for a permit to occupy and use national forest system land for operating and maintaining portions of Kirkpatrick Dam, Rodman Resevoir, and Eureka Lock. The FDEP is in the process of developing the Kirkpatrick Dam/Ocklawaha River Restoration Project for restoring a portion of the Cross Florida Barge Canal to its historic condition. The FDEP is considering four alternatives for this project: (1) Complete Restoration of the Oklawaha River, (2) Partial Restoration of the Oklawaha River, (3) Total Retention of the Rodman Reservoir, and (4) Partial Retention of the Rodman Reservoir. The FDEP has chosen the Partial Restoration of the Oklawaha River as its preferred alternative. This plan will restore river hydrology and floodplain function to historic conditions through breaching the dam, with limited removal and/or alteration of structures and topographical manipulation, and allowing for restoration by natural processes.

A Notice of Intent (NOI) to prepare a draft environmental impact statement for this project was prepared by the U.S. Army Corps of Engineers (COE) and published on February 6, 1996. The COE decisions include permitting activities for Section 9 and Section 10 of the Rivers and Harbors Act and for Section 404 of the Clean Water Act. The COE permitting decisions are several years away and the Forest Service decision is ripe for action at this time; therefore, the Forest Service intends to prepare its own draft environmental impact statement to support its land use decision. The Forest Supervisor for the National Forests in Florida will decide whether or not to permit continued occupancy and use of national forest system land by FDEP for operating and maintaining portions of Kirkpatrick Dam, Rodman Reservoir, and Eureka Lock, and the disposition and management of currently submerged national forest land in conjunction with the implementation of the Partial Restoration of the Oklawaha River.

The scoping process, as outlined by the Council on Environmental Quality (CEQ), will be utilized to involve Federal, State, and local agencies and other interested persons and organizations. Interested persons and organizations wishing to participate in the scoping process should contact the Forest Service at the above mentioned address. Environmental considerations include potential presence of historical or archeological resources, aesthetics, recreation demand, water quality, flood control, water supply, land use, wetlands, endangered and threatened species, and fish and wildlife habitats and values. The comment period on the draft environmental impact statement will be 45 days from the date the Environmental Protection Agency publishes the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the CEQ for implementing the procedural provisions of the National Environmental Policy Act at 40 CFR 1503.3 in addressing these points.

Dated: March 14, 2001.
Art Rohrbacher,
Acting Forest Supervisor, National Forests in Florida.

[FR Doc. 01-6810 Filed 3-19-01; 8:45 am]

BILLING CODE 3410-11-M